NUCLEAR REGULATORY COMMISSION

[Docket No. 03004530; NRC-2009-0123]

Notice of Availability of Environmental Assessment and Finding of No Significant Impact for License Amendment to Byproduct Materials License No. 19-00915-03, Held by U.S. Department of Agriculture, Beltsville, MD, To Authorize Disposal of Contaminated Soil

AGENCY: Nuclear Regulatory Commission.

ACTION: Issuance of Environmental Assessment and Finding of No Significant Impact for License Amendment.

FOR FURTHER INFORMATION CONTACT: James Schmidt, Health Physicist, Decommissioning Branch, Division of Nuclear Materials Safety, Region 1, 475 Allendale Road, King of Prussia, Pennsylvania; telephone 610-337-5276; facsimile 610-337-5269; or by e-mail: jim.schmidt@nrc.gov.

SUPPLEMENTARY INFORMATION:

I. Introduction

The U.S. Nuclear Regulatory Commission (NRC) is considering the issuance of a license amendment to Byproduct Materials License No. 19-00915-03. This license is held by the U.S. Department of Agriculture (USDA) (the Licensee), for its facility located in Beltsville, Maryland (the Facility). License No. 19-00915-03 was issued by the U.S. Atomic Energy Commission to the USDA in the mid-1950s and later by the NRC, pursuant to Title 10 Code of Federal Regulations part 30 (10 CFR part 30) and has been amended periodically since that time. This license authorized USDA to use unsealed byproduct material with atomic numbers 1 through 83 and sealed byproduct material with atomic numbers 1 through 95 for purposes of conducting research and development activities at specific USDA locations and facilities and at temporary job sites in the United States, as authorized by the Licensee's Radiation Safety Committee.

Pursuant to the provisions in 10 CFR 20.2002, issuance of the license amendment would authorize the transfer and offsite disposal of approximately 4,500,000 kilograms (5,000 tons) of soil contaminated with small amounts of radionuclides that do not exceed the values listed in Table 1. The contaminated soil was or will be excavated from the Beltsville Agricultural Research Center waste burial site located in Beltsville, Maryland, as part of decommissioning activities at the USDA site. The contaminated soil would be disposed of at the U.S. Ecology Idaho's Grand View (USEI Grand View) hazardous waste disposal facility located near Grand View, Idaho. The U.S. Ecology facility is a Subtitle C Resource Conservation and Recovery Act (RCRA) hazardous waste disposal facility that is regulated by the State of Idaho, Department of Environmental Quality. Any disposal at this facility must comply with State requirements. This action, if approved, would exempt the contaminated material disposed of at the Idaho facility from further Atomic Energy Act (AEA) and NRC licensing requirements.

Table 1—Maximum Concentration of Radionuclides
Radionuclide | Maximum concentration (picocurie per gram)
H-3 | 337.56
C-14 | 183.19
Sr-90 | 1.59
Cl-36 | 0.02
Ni-63 | 7.83
Ra-226 | 0.03
Na-22 | 0.04
Fe-55 | 0.16
Pb-210 | 5.42
Cs-137 | 0.8

The licensee requested this action in a letter dated October 5, 2007. The NRC has prepared an Environmental Assessment (EA) in support of this proposed action in accordance with the requirements in 10 CFR part 51. Based on the EA, the NRC has concluded that a Finding of No Significant Impact (FONSI) is appropriate with respect to the proposed action. The requested amendment will be issued to the Licensee following the publication of this FONSI and EA in the Federal Register.

II. Environmental Assessment

Identification of Proposed Action

The proposed action would approve the Licensee's October 5, 2007, license amendment request to authorize the transfer of approximately 4,500,000 kilograms of contaminated soil excavated from its Beltsville waste burial site to the USEI Grand View hazardous waste disposal facility located near Grand View, Idaho. In addition to granting the license amendment request, the proposed action would also grant, pursuant to 10 CFR 30.11(a), an exemption to USEI Grand View from 10 CFR part 30 licensing requirements. This site would receive soils contaminated with small amounts of radioactive material generated as part of the cleanup of the Beltsville waste disposal site. 10 CFR 30.11(a) provides that the Commission may, upon application by an interested person or “upon its own initiative, grant such exemptions” from 10 CFR part 30 requirements “as it determines are authorized by law and will not endanger life or property or the common defense and security and are otherwise in the public interest.” Under the exemption granted to USEI Grand View, any contaminated soil from the Facility would upon its receipt at USEI Grand View, no longer be subject to NRC regulations and would no longer be NRC licensed material. In a letter dated August 25, 2008, U.S. Ecology Idaho reported to the NRC staff that the waste, as characterized by the Licensee, meets the hazardous waste disposal facility waste acceptance criteria and therefore, pending NRC approval, would be acceptable for disposal at the USEI Grand View facility.

Need for the Proposed Action

The licensee needs this license amendment in order to dispose of approximately 4,500,000 kilograms of slightly contaminated soil at an appropriate waste disposal facility. This soil is being removed from a previously used waste facility being remediated at the USDA Beltsville location. NRC is fulfilling its responsibilities under the Atomic Energy Act and the National Environmental Policy Act to make a timely decision on a proposed license amendment that ensures protection of public health and safety and the environment.

Environmental Impacts of the Proposed Action

The NRC staff reviewed the license amendment request to allow disposal of the contaminated soil at the USEI Grand View hazardous waste facility and examined the impacts associated with this request. Potential impacts included dose to workers, dose to members of the public, and risks associated with transportation of the material to the Idaho disposal site. As part of its October 5, 2007, amendment request, the Licensee submitted a detailed safety assessment regarding the likely consequences associated with the rail transport and subsequent disposal of the USDA soil in the USEI Grand View facility. The licensee considered three distinct population groups: transportation workers, disposal site facility workers, and members of the public residing near the disposal site. The licensee estimated that for each population group, the annual dose equivalent received from the proposed action would be less than 0.01 millisievert (1 millirem). The NRC staff conducted an independent technical review of this estimate and concluded that the Licensee's dose estimate was technically sound. This dose is far below the dose limits established in 10 CFR part 20 for occupational workers and members of the public and is considered to be as low as is reasonably achievable.

The risk to human health from the transportation of radioactive material in the U.S. was evaluated in NUREG-0586, “Generic Environmental Impact Statement on Decommissioning of Nuclear Facilities.” As evaluated there, the impacts associated with rail transport of decommissioning wastes are not detectable, and the potential impacts are small. The NRC staff finds that the transportation impacts of the proposed action are bounded by those evaluated in NUREG-0586, and that the proposed action poses no danger to public heath and safety. The NRC staff finds that the proposed action will result in minimal risk to workers and the public. The NRC has identified no other radiological or non-radiological activities connected with the proposed action that would result in cumulative environmental impacts, and concludes that the proposed action will not have a significant effect on the quality of the human environment.

Environmental Impacts of the Alternatives to the Proposed Action

The only alternative to the proposed soil disposal action is no action. This no action alternative is unacceptable because it conflicts with 10 CFR 30.36(d) which requires that decommissioning of byproduct material facilities be completed and approved by the NRC after license activities at a site cease. The no action alternative would keep radioactive material on site and halt the remediation activities associated with cleanup of the Beltsville Agricultural Research Center waste burial site.

Conclusion

The NRC staff has concluded that the proposed action is consistent with NRC guidance and regulations. Because the proposed action will not significantly impact the quality of the human environment, the NRC staff concludes that the proposed action is the preferred alternative.

Agencies and Persons Consulted

NRC provided a draft of this Environmental Assessment to the Idaho Department of Environmental Quality and the Maryland Radiological Health Program for review on October 1, 2008. On October 6, 2008, the Idaho Department of Environmental Quality responded by electronic mail. The State of Idaho agreed with the conclusions of the EA, and otherwise had no comments. On November 10, 2008, the Maryland Radiological Health Program responded by electronic mail. The State of Maryland agreed with the conclusions of the EA, and otherwise had no comments.

The NRC staff has determined that the proposed action of authorizing disposal of material meeting the waste acceptance criteria of an existing approved RCRA hazardous waste disposal facility is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Title 10 Code of Federal Regulations, part 20, “Standards for Protection Against Radiation;”

2. Title 10, Code of Federal Regulations, part 51, “Environmental Protection Regulations for Domestic Licensing and Related Regulatory Functions;”

3. Title 10, Code of Federal Regulation, part 30, “Rules of General Applicability to Domestic Licensing of Byproduct Material;” and

4. Letter dated October 5, 2007 from USDA to NRC [ML073110166]

5. Letter dated August 25, 2008 from USEI to NRC [ML082480279]

If you do not have access to ADAMS, or if there are problems in accessing the documents located in ADAMS, contact the NRC Public Document Room (PDR) Reference staff at 1-800-397-4209, 301-415-4737, or by e-mail to pdr.resource@nrc.gov. These documents may also be viewed electronically on the public computers located at the NRC's PDR, O 1 F21, One White Flint North, 11555 Rockville Pike, Rockville, MD 20852. The PDR reproduction contractor will copy documents for a fee.

Dated at King of Prussia, Pennsylvania this 12th day of March, 2009.
For The Nuclear Regulatory Commission.
Randolph C. Ragland, Jr.,
Chief, Decommissioning Branch, Division of Nuclear Materials Safety, Region 1.

[FR Doc. E9-6000 Filed 3-18-09; 8:45 am]

BILLING CODE 7590-01-P